DEPARTMENT OF TRANSPORTATION

Surface Transportation Board

Senior Executive Service Performance Review Board

AGENCY: Surface Transportation Board.

ACTION: Notice.

SUMMARY: The Surface Transportation Board (STB) publishes the names of the Persons selected to serve on its Senior Executive Service Performance Review Board (PRB).

FOR FURTHER INFORMATION CONTACT: Paula Chandler, Director of Human Resources, (202) 245-0340.

SUPPLEMENTARY INFORMATION: Title 5 U.S.C. 4314 requires that each agency implement a performance appraisal system making senior executives accountable for organizational and individual goal accomplishment. As part of this system, 5 U.S.C. 4314(c) requires each agency to establish one or more PRBs, the function of which is to review and evaluate the initial appraisal of a senior executive's performance by the supervisor and to make recommendations to the final rating authority relative to the performance of the senior executive.

The persons named below have been selected to serve on STB's PRB.

Leland L. Gardner, Director, Office of the Managing Director; Rachel D. Campbell, Director, Office of Proceedings; Raymond A. Atkins, General Counsel.

Senior Executive Service, Performance Review, Board.

Dated: July 11, 2011.
Andrea Pope-Matheson,
Clearance Clerk.

[FR Doc. 2011-19605 Filed 8-2-11; 8:45 am]

BILLING CODE 4915-01-P